DEPARTMENT OF HEALTH AND HUMAN SERVICES

Indian Health Service

Organization, Functions, and Delegations of Authority; Part G; Indian Health Service; Proposed Functional Statement

Program Integrity and Ethics Staff (PIES) (GAL1)

(1) Directs the fact-finding and resolution of allegations of impropriety such as mismanagement of resources, fraud, waste, and abuse, violations of the Standards of Ethical Conduct, Hatch Act and political activity and other forms of waste; (2) advises the IHS Director and IHS management of appropriate corrective and remedial actions to correct improprieties; (3) directs and provides leadership in the formulation of plans, guidance, and evaluation of the IHS Personnel Security and Drug Testing Programs; (4) administers the IHS-wide management of the Agency hotline reports of allegations; (5) manages and directs the IHS “Ethics Program,” including the implementation of all requirements, providing advice to the IHS Director and serving as the Agency liaison with all outside investigative organizations such as the Office of Special Counsel, the Government Accountability Office (GAO) and HHS Office of Inspector General (OIG); (6) develops and implements IHS directives and training for Standards of Ethical Conduct, the Hatch Act and political activity, allegations and investigations of administrative fraud, waste and abuse, drug testing, and personnel security; and (7) serves as the IHS liaison with the OIG and GAO, and coordinates the development, clearance, and transmittal of IHS responses and follow-up to matters and reports issued by the OIG, the GAO, and other Federal internal and external authorities.

Management Policy and Internal Control Staff (MPICS) (GAL3)

(1) Formulates, administers, and supports IHS-wide policies, delegations of authority, and organizations and functions development; (2) provides leadership, on behalf of the IHS Director, to functional area managers at IHS Headquarters in developing, modifying, and overseeing the implementation of IHS policies and procedures; (3) provides analysis, advisory, and assistance services to IHS managers and staff for the development, clearance, and filing of IHS directives and delegations of authority; (4) serves as principal advisor and source for technical assistance for establishment or modification of organizational infrastructures, functions, and Standard Administrative Code configurations; (5) administers the IHS's Management Control Program for assuring IHS compliance with management control requirements in the Federal Managers' Financial Integrity Act; (6) provides assistance and support to special assigned task groups; (7) conducts special program or management integrity reviews as required; and (8) oversees and coordinates the annual development and submission of the Agency's Federal Activities Inventory Reform Act report to the HHS.

Division of Grants Management (DGM) (GALD)

(1) Directs grants management and operations for the IHS; (2) initiates new and modifies existing IHS grants administration policies and procedures in accordance with HHS grants policies; (3) provides assistance to IHS staff and grantee organizations regarding policies and procedures pertinent to the administration of IHS grants to ensure stewardship of Federal funds; (4) provides guidance to and articulates grants management policy for IHS staff on the effective utilization of financial assistance mechanisms (grants and cooperative agreements); (5) advises and provides technical support to IHS staff on program announcement requirements as issued by OMS and HHS Grants Review and Oversight; (6) develops and maintains IHS Grants Operations/Grants Policy website; (7) posts all IHS funding opportunities on IHS Grants Operations/Grants Policy website for Grants.gov; (8) administers grants and cooperative agreements for all IHS grant recipients; (9) awards and administers grants and cooperative agreements for IHS financial assistance programs; (10) provides assistance for the resolution of audit findings for grant programs; (11) manages for the IHS, the HHS grants training and certification program; (12) performs internal controls assessments on all facets of the IHS grant programs and issues and oversees the completion of necessary corrective action plans; (13) reviews and makes recommendations for improvements in grantee and potential grantee management systems; (14) serves as the IHS liaison with the HHS and the public for grants and other financial assistance matters within the IHS; (15) maintains the Catalog of Federal Domestic Assistance for IHS financial assistance programs; (16) conducts grants-related training for IHS staff, grantees, and potential grantees; (17) coordinates payment to grantees, including scholarship recipients; and (18) establishes and maintains the IHS automated Grants Information System and controls data entry into the HHS automated Grants Information System.

Section GA-30, Indian Health Service—Order of Succession

During my absence or disability of the IHS Director or in the event of a vacancy in that office, the following IHS Headquarters officials, in the order listed below, shall act as the IHS Director. In the event of a planned extended period of absence, the IHS Director may specify a different order of succession. The order of succession will be:

(1) Deputy Director

(2) Deputy Director for Management Operations

(3) Chief Medical Officer

(4) Deputy Director for Field Operations

Section GA-40, Indian Health Service—Delegations of Authority

All delegations of authority and re-delegations of authority made to IHS officials that were in effect immediately prior to this reorganization, and that are consistent with this reorganization, shall continue in effect pending further re-delegation.

This reorganization shall be effective June 2, 2010.

Dated: June 2, 2010.
Yvette Roubideaux,
Director, Indian Health Service.

[FR Doc. 2010-15973 Filed 6-30-10; 8:45 am]

BILLING CODE 4165-16-P